DEPARTMENT OF TRANSPORTATION

Office of the Secretary

49 CFR Part 40

[Docket No. OST-1999-6578]

Procedures for Transportation Workplace Drug and Alcohol Testing Programs; Early Compliance Allowed for Electronic Reporting

AGENCY: Office of the Secretary, DOT.

ACTION: Compliance date on final rule.

SUMMARY: In its final drug and alcohol testing rule published on December 19, 2000, and effective August 1, 2001, the Department authorized laboratories, certified by the Department of Health and Human Services (HHS), to report negative drug testing results to medical review officers (MRO) using only electronic reports and mandated the use of the new Federal Drug Testing Custody and Custody Form (CCF). To provide laboratories lead-time to accomplish the transition to the new CCF, the Department, in coordination with HHS, has determined that earlier compliance with this reporting procedure should be permitted. Additionally, the Department is also permitting early compliance with the reporting of all non-negative results to the MRO using faxed or scanned copies of the laboratory copy of the new CCF.

This document authorizes HHS certified laboratories to initiate electronic reporting as the only reporting necessary for negative results on specimens submitted to laboratories using the new CCF and the reporting of non-negative results using faxed or scanned copies of Copy 1 of the new CCF. Laboratories may continue to use current procedures utilizing mail or courier services.

DATES: This document permits as of May 23, 2001 early compliance with the electronic reporting provisions in the final rule published at 65 FR 79462, and effective August 1, 2001.

FOR FURTHER INFORMATION CONTACT: Don Shatinsky, Drug and Alcohol Policy Advisor, Office of Drug and Alcohol Policy and Compliance, Department of Transportation, 400 7th Street, SW., Room 10403, Washington, DC 20590, at (202) 366-3784 (voice), (202) 366-3897 (fax), or don.shatinsky@ost.dot.gov/.

SUPPLEMENTARY INFORMATION: In the December 19, 2000, Federal Register (65 FR 79462), the Department published a comprehensive revision to its drug and alcohol procedures testing regulation (49 CFR Part 40). This complete revision becomes effective August 1, 2001. In this revision, the Department authorizes laboratories to report drug testing results to the MRO electronically and mandates use of the new shorter-version of the Federal Drug Testing Custody and Control Form (CCF).

Currently, the Department and HHS permit laboratories and employers to use the new CCF. The laboratory may transmit all results (negative and non-negative) to the MRO by mail or courier or by either faxing the completed laboratory copy (Copy 1) of the CCF or transmitting a scanned image of the form via computer. On August 1, 2001, for all negative results, laboratories will be permitted to send to MROs an electronically generated laboratory report and will not need to mail, courier, fax or send a scanned copy, thus initiating substantial savings related to processing paper records.

Additionally, since all laboratories and employers must use the new shorter form as of August 1, 2001, HHS has directed laboratories to treat submission of specimens for drug testing using the older (seven-part) form as a correctable flaw which the laboratory must correct using a memorandum for record from the collection site. Laboratories have indicated to HHS and the Department that without a transition period to change over to the new forms and without gradual phasing in of electronic reporting, they foresee substantial implementation problems. From previous experiences, laboratories have learned that collection sites are reluctant to destroy old forms and continue to use them until they deplete their supply. Without a phase-in period, laboratories are concerned that the continued use of old forms after August 1, will create a substantial paper burden. Also, the new forms were designed specifically to be used with the electronic reporting process. Until this reporting process is in place, there is little motivation to initiate the use of the new forms.

The Department is convinced that authorizing the laboratories and employers to initiate the use of electronic reporting (as provided in the new § 40.97) a few months earlier would have a beneficial impact on the industry. Through this document, the Department consents to laboratories using the procedures provided in the new rule before August 1, 2001. Laboratories are not required to use electronic reporting, however.

Issued this 10th day of May 2001, at Washington, DC.
Kenneth C. Edgell,
Acting Director, Office of Drug and Alcohol, Policy and Compliance.

[FR Doc. 01-12484 Filed 5-22-01; 8:45 am]

BILLING CODE 4910-62-P